DEPARTMENT OF TRANSPORTATION

Federal Aviation Administration

Notice of Intent To Rule on Request To Release Airport Property at the Kittitas County Airport, Ellensburg, WA

AGENCY: Federal Aviation Administration (FAA), DOT.

ACTION: Notice of request to release airport property.

SUMMARY: The FAA proposes to rule and invite public comment on the release of land at Kittitas County Airport under the provisions of Section 125 of the Wendell H. Ford Aviation Investment Reform Act for the 21st Century (AIR 21).

DATES: Comments must be received on or before May 22, 2001.

ADDRESSES: Comments on this application may be mailed or delivered to the FAA at the following address: Mr. J. Wade Bryant, Manager, Federal Aviation Administration, Northwest Mountain Region, Airports Division, Seattle Airports District Office, 1601 Lind Avenue, S.W., Suite 250, Renton, Washington 98055-4056.

In addition, one copy of any comments submitted to the FAA must be mailed or delivered to Mr. Paul Bennett, Director of Public Works, at the following address: Kittitas County, 205 West 5th, Ellensburg, Washington, 98926.

FOR FURTHER INFORMATION CONTACT: Mr. Paul Johnson, Project Manager, Federal Aviation Administration, Northwest Mountain Region, Seattle Airports District Office, 1601 Lind Avenue, S.W., Suite 250, Renton, Washington 98055-4056.

The request to release property may be reviewed in person at this same location.

SUPPLEMENTARY INFORMATION: The FAA invites public comment on the request to release property at the Kittitas County Airport under the provisions of the AIR 21.

On February 1, 2001, the FAA determined that the request to release property at Kittitas County Airport submitted by the city met the procedural requirements of the Federal Aviation Regulations, Part 155. The FAA may approve the request, in whole or in part, no later than June 15, 2001.

The following is a brief overview of the request:

The Kittitas County Airport requests the release of .29 acres of non-aeronautical airport property to the City of Ellensburg. The purpose of this release is to transfer ownership to the City of Ellensburg for construction of a water tower. The city entered into an agreement to install a water and sewer system that would extend from Ellensburg city limits to the Kittitas County Airport industrial area. The water and sewer improvements increase the value of industrial land at the airport, which will attract potential leases within the industrial area and produce increased revenue for Kittitas County Airport.

Any person may inspect the request in person at the FAA office listed above under FOR FURTHER INFORMATION CONTACT.

In addition, any person may, upon request, inspect the application, notice and other documents germane to the application in person at Kittitas County, 205 West 5th, Ellensburg, Washington 98926.

Issued in Renton, Washington on April 4, 2001.
J. Wade Bryant,
Manager, Seattle Airports District Office.

[FR Doc. 01-10133 Filed 4-23-01; 8:45 am]

BILLING CODE 4910-13-M